DEPARTMENT OF HOMELAND SECURITY

Transportation Security Administration

Notice of Availability of Surface Transportation Grant Programs

AGENCY: Transportation Security Administration, DHS.

ACTION: Notice of availability.

SUMMARY: DHS is announcing that on or about November 5, it will issue guidance and accept applications for surface transportation security improvement grants for fiscal year (FY) 2009. Eligibility for the FY 2009 grants, as provided in the new guidance, may have changed from previous years. Applications for these grants must be submitted pursuant to the procedures outlined in the guidance to be made available on or about November 5, 2008.

FOR FURTHER INFORMATION CONTACT:

e-mail: TSAgrants@tsa.dhs.gov.

SUPPLEMENTARY INFORMATION:

Extended Programs

On or about November 5, 2008, DHS will announce extensions of, and possible changes to, four existing surface transportation grant programs that are cooperatively managed by the Transportation Security Administration and the Federal Emergency Management Agency: Transit (Transit Security Grant Program or TSGP), Freight Rail (Freight Rail Security Grant Program or FRSGP), Intercity Bus (Intercity Bus Security Grant Program, or IBSGP) and Trucking (Trucking Security Program or TSP). By this notice, DHS is encouraging appropriate entities in these transportation sectors to review the forthcoming guidance and, as appropriate, apply for grants under the programs if they are eligible applicants under the requirements outlined in the forthcoming guidance. At the same time that DHS announces grant guidance, DHS will announce extensions of the existing TSGP, FRSGP, and TSP. The Transit Security Grant Program (TSGP) funds are currently directed to high-risk transit systems for planning, training, public awareness, operational activities, protection for multi-user and single-user high-density stations, and other hardening activities or systems.

The Freight Rail Security Grant Program (FRSGP) is a component of the TSGP. The FRSGP was created by the “Implementing Recommendations of the 9/11 Commission Act of 2007” (9/11 Commission Act).¹ Section 1513 of the 9/11 Commission Act directs DHS to make funds for security improvement grants available to certain entities involved in or with the freight railroad industry and specifies the uses to which the funds may be applied. Currently, FRSGP funds are used for security plans, vulnerability assessments, and training for Class I, II, and III railroads.

¹ Public Law 110-53; 121 Stat. 266; August 3, 2007.

Currently, Trucking Security Program (TSP) funds are used to service an anti-terrorism and security awareness program for professionals and operating entities within the highway sector to include: (1) Participant identification and recruitment; (2) training; (3) communications; (4) information analysis and distribution; and (5) planning.

General Information

In grant guidance to be released on or about November 5, 2008, DHS will identify the categories of transit, freight rail, trucking, and intercity bus entities that are eligible for funding under the programs and the uses to which funding may be applied. With respect to the TSGP, FRSGP and TSP, eligibility will not necessarily be limited to entities that have been eligible for funding under previous DHS grant programs. To apply for grant funding under any of these grant programs, each eligible applicant must first register as a grant applicant with the Federal government at http://www.grants.gov. Several additional steps are required to complete this registration, including registering with the Central Contractor Registration (http://www.ccr.gov) and obtaining a Dun & Bradstreet (DUNS) number. Please visit http://www.grants.gov for more detailed information about this registration process. Please be advised that the entire process can take several weeks. DHS will post additional information about registration when we issue the grant guidance on or about November 5, 2008. After that date, you may obtain an electronic copy of the grant guidance at http://www.tsa.gov/grants.

Issued in Arlington, Virginia, on October 31, 2008.
John Sammon,
Assistant Administrator, Transportation Sector Network Management.

[FR Doc. E8-26406 Filed 11-4-08; 8:45 am]

BILLING CODE 9110-05-P